DEPARTMENT OF TRANSPORTATION

Federal Highway Administration

Notice of Final Federal Agency Actions on Proposed Highway in Washington

AGENCY: Federal Highway Administration (FHWA), DOT.

ACTION: Notice of limitation on claims for judicial review of actions by FHWA.

SUMMARY: The FHWA final actions relate to a proposed highway project, I-405 between Mileposts 0 in Tukwila and Milepost 11.9 in Bellevue in the County King, State of Washington. Those actions grant approvals for the project.

DATES: By this notice, the FHWA is advising the public of final agency actions subject to 23 U.S.C. 139(l)(1). A claim seeking judicial review of the Federal agency actions on the highway project will be barred unless the claim is filed on or before September 27, 2019. If the Federal law that authorizes judicial review of a claim provides a time period of less than 150 days for filing such claim, then that shorter time period still applies.

FOR FURTHER INFORMATION CONTACT: For FHWA: Lindsey Handel, Area Engineer, Federal Highway Administration, 711 S Capitol Way, Suite 501, Olympia, WA 98501-1284, 360-753-9550. For Washington State Department of Transportation (WSDOT): Lisa Hodgson, I-405/SR 167 Deputy Program Administrator, Washington State Department of Transportation, 600 108th Avenue NE, Suite 405, Bellevue, Washington 98004, 425-456-8543, or hodgsol@wsdot.wa.gov.

SUPPLEMENTARY INFORMATION: Notice is hereby given that FHWA has taken final agency action(s) subject to 23 U.S.C. 139(l)(1) by issuing approvals for the following highway project in the State of Washington: The I-405, Tukwila to I-90 Vicinity Express Toll Lanes Project proposes roadway, structural, trail, and transit improvements in the I-405 corridor from Tukwila (MP 0.0) near the I-5 interchange to north of the I-90 interchange (MP 11.9). The Project proposes developing a dual express toll lane (ETL) system in each direction of I-405 between the SR 167 interchange to north of I-90, by adding one lane in each direction and converting the existing high occupancy vehicle (HOV) lane to an ETL. The Project proposes rebuilding bridges at Renton Avenue, Cedar Avenue, May Creek, Sunset Boulevard North, and May Creek. The project also includes building direct access ramps and inline transit stations at NE 44th Street and 112th, local street improvements, and park-and-ride improvements. The Project also proposes building a segment of the Eastside Corridor Regional Trail in this area. Other improvements include ramp reconfigurations, stormwater facility expansion, fish passage improvements, constructing or relocating noise walls, pavement markings, drainage improvements, signing, illumination, intelligent transportation systems, barriers, and tolling gantries.

The actions by the Federal agencies, and the laws under which such actions were taken, are described in the I-405, Tukwila to I-90 Vicinity Express Toll Lanes Project Environmental Assessment issued on July 9, 2018, Finding of No Significant Impact (FONSI) for the project published on April 12, 2019, and in other documents in the project records. The FONSI and other project records are available from FHWA and WSDOT at the addresses provided above and can be found online at: http://www.wsdot.wa.gov/projects/i405/rentontobellevue/tukwila-i-90-environmental-assessment.

This notice applies to all Federal agency decisions that are final as of the issuance date of this notice and all laws under which such actions were taken, including but not limited to:

1. General: National Environmental Policy Act (NEPA) (42 U.S.C. 4321-4351); Federal-Aid Highway Act (23 U.S.C. 109 and 23 U.S.C. 128).

2. Air: Clean Air Act (42 U.S.C. 7401-7671q).

3. Land: Section 4(f) of the Department of Transportation Act of 1966 (49 U.S.C. 303; 23 U.S.C. 138); Landscaping and Scenic Enhancement (Wildflowers) (23 U.S.C. 319).

4. Wildlife: Endangered Species Act (16 U.S.C. 1531-1544 and Section 1536); Marine Mammal Protection Act (16 U.S.C. 1361-1423h); Fish and Wildlife Coordination Act (16 U.S.C. 661-667d); Migratory Bird Treaty Act (16 U.S.C. 703-712).

5. Historic and Cultural Resources: Section 106 of the National Historic Preservation Act of 1966, as amended (16 U.S.C. 470f); Archeological Resources Protection Act of 1977 (16 U.S.C. 470aa-470mm); Archeological and Historic Preservation Act (16 U.S.C. 469-469c); Native American Grave Protection and Repatriation Act (NAGPRA) (25 U.S.C. 3001-3013).

6. Social and Economic: American Indian Religious Freedom Act (42 U.S.C. 1996); Farmland Protection Policy Act (FPPA) (7 U.S.C. 4201-4209).

7. Wetlands and Water Resources: Clean Water Act (Section 404, Section 401, Section 319) (33 U.S.C. 1251-1387); Land and Water Conservation Fund (LWCF) (16 U.S.C. 4601-4604); Safe Drinking Water Act (SDWA) (42 U.S.C. 300f-300j-26)); Rivers and Harbors Act of 1899 (33 U.S.C. 401-406); Wild and Scenic Rivers Act (16 U.S.C. 1271-1287); Emergency Wetlands Resources Act, (16 U.S.C. 3901, 3921); Wetlands Mitigation (23 U.119(g) and 133(b)(14)); Flood Disaster Protection Act, 42 U.S.C. 4012a, 4106).

8. Executive Orders: E.O. 11990 Protection of Wetlands; E.O. 11988 Floodplain Management; E.O. 12898, Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: April 19, 2019.
Daniel M. Mathis,
Division Administrator, Federal Highway Administration, Olympia, Washington.

[FR Doc. 2019-08636 Filed 4-29-19; 8:45 am]

BILLING CODE 4910-RY-P